DEPARTMENT OF STATE

[Public Notice 9246]

Additional Culturally Significant Objects Imported for Exhibition Determinations: “Joaquín Torres-García: The Arcadian Modern” Exhibition

ACTION: Notice; correction.

SUMMARY: On August 17, 2015, notice was published on pages 49296 and 49297 of the Federal Register (volume 80, number 158) of determinations made by the Department of State pertaining to certain objects imported for temporary display in the exhibition “Joaquín Torres-García: The Arcadian Modern.” The referenced notice is corrected here to include additional objects as part of the exhibition. Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236-3 of August 28, 2000 (and, as appropriate, Delegation of Authority No. 257 of April 15, 2003), I hereby determine that the additional objects to be included in the exhibition “Joaquín Torres-García: The Arcadian Modern,” imported from abroad for temporary exhibition within the United States, are of cultural significance. The additional objects are imported pursuant to a loan agreement with the foreign owner or custodian. I also determine that the exhibition or display of the additional exhibit objects at The Museum of Modern Art, New York, New York, from on or about October 25, 2015, until on or about February 15, 2016, and at possible additional exhibitions or venues yet to be determined, is in the national interest. I have ordered that Public Notice of these Determinations be published in the Federal Register.

FOR FURTHER INFORMATION CONTACT: For further information, including a list of the additional imported objects, contact the Office of Public Diplomacy and Public Affairs in the Office of the Legal Adviser, U.S. Department of State (telephone: 202-632-6471; email: section2459@state.gov). The mailing address is U.S. Department of State, L/PD, SA-5, Suite 5H03, Washington, DC 20522-0505.

Dated: August 26, 2015.
Kelly Keiderling,
Principal Deputy Assistant Secretary, Bureau of Educational and Cultural Affairs, Department of State.

[FR Doc. 2015-21614 Filed 8-28-15; 8:45 am]

BILLING CODE 4710-05-P